NUCLEAR REGULATORY COMMISSION

[Docket No. NRC-2010-0360]

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on November 22, 2010.

1. Type of submission, new, revision, or extension: Revision.

2. The title of the information collection: Comprehensive Decommissioning Program, Including Annual Data Collection.

3. Current OMB approval number: 3150-0206.

4. The form number if applicable: N/A.

5. How often the collection is required: Annually.

6. Who will be required or asked to report: All Agreement States who have signed Section 274(b) Agreements with NRC.

7. An estimate of the number of annual responses: 83.

8. The estimated number of annual respondents: 37 (13 Agreement States respondents with sites of interest + 24 Agreement States respondents with no sites of interest).

9. An estimate of the total number of hours needed annually to complete the requirement or request: 662 (590 hours from Agreement States with sites of interest + 72 hours from Agreement States with no sites of interest).

10. Abstract: Agreement States will be asked to provide information about uranium recovery and complex sites undergoing decommissioning regulated by the Agreement States on an annual basis. The information request will allow the NRC to compile, in a centralized location, more complete information on the status of decommissioning and decontamination in the United States in order to provide a national perspective on decommissioning. The information will be made available to the public by the NRC in order to ensure openness and promote communication to enhance public knowledge of the national decommissioning program. This does not apply to information, such as trade secrets and commercial or financial information provided by the Agreement States, that is considered privileged or confidential. Information such as financial assurance and the status of decommissioning funding would need to be identified by the Agreement State as privileged or confidential, whereupon the NRC would withhold such information from public access and treat it as sensitive or non-sensitive, per the considerations in 10 CFR 2.390 and 9.17. This does not apply to financial assurance or decommissioning funding information that is already available to the public. Although specific details of the funding mechanisms are treated as confidential, beneficial lessons learned regarding the improvement of decommissioning-related funding will be shared with the Agreement States.

A copy of the final supporting statement may be viewed free of charge at the NRC Public Document Room, One White Flint North, 11555 Rockville Pike, Room O-1 F21, Rockville, Maryland 20852. OMB clearance requests are available at the NRC worldwide Web site: http://www.nrc.gov/public-involve/doc-comment/omb/index.html. The document will be available on the NRC home page site for 60 days after the signature date of this notice.

Comments and questions should be directed to the OMB reviewer listed below by March 10, 2011. Comments received after this date will be considered if it is practical to do so, but assurance of consideration cannot be given to comments received after this date.

Christine J. Kymn, Desk Officer, Office of Information and Regulatory Affairs (3150-0206), NEOB-10202, Office of Management and Budget, Washington, DC 20503.

Comments can also be e-mailed to Christine.J.Kymn@omb.eop.gov or submitted by telephone at (202) 395-4638.

The NRC Clearance Officer is Tremaine Donnell, (301) 415-6258.

Dated at Rockville, Maryland, this 27th day of January 2011.
For the Nuclear Regulatory Commission.
Tremaine Donnell,
NRC Clearance Officer, Office of Information Services.

[FR Doc. 2011-2741 Filed 2-7-11; 8:45 am]

BILLING CODE 7590-01-P